DEPARTMENT OF HOMELAND SECURITY

Coast Guard

33 CFR Part 100

[Docket No. USCG-2022-0061]

Special Local Regulations: Miami Beach Air and Sea Show, Atlantic Ocean, Miami Beach, FL

AGENCY: Coast Guard, DHS.

ACTION: Notice of enforcement of regulation.

SUMMARY: The Coast Guard will enforce a special local regulation for the Miami Beach Air and Sea Show to provide for the safety of life on navigable waterways during this event. During the enforcement periods, the operator of any vessel in the regulated area must comply with directions from the Patrol Commander or any Official Patrol displaying a Coast Guard ensign.

DATES: The regulation in 33 CFR 100.702, Table 1 to § 100.702, Item 2, will be enforced from 9 a.m. until 5:30 p.m., each day from Friday May 27, 2022 through Sunday May 29, 2022.

FOR FURTHER INFORMATION CONTACT: If you have questions about this notice of enforcement, call or email Petty Officer Robert M. Olivas, Sector Miami Waterways Management Division, U.S. Coast Guard; telephone 305-535-4317, email Robert.M.Olivas@uscg.mil.

SUPPLEMENTARY INFORMATION: The Coast Guard will enforce a special local regulation in 33 CFR 100.702, Table 1 to § 100.702, Item 2, for the Miami Beach Air and Sea Show, from 9 a.m. until 5:30 p.m., each day from Friday May 27, 2022 through Sunday May 29, 2022. The Coast Guard is taking this action to provide for the safety of life on navigable waterways during the event. Our regulation for recurring marine events, Sector Miami, 33 CFR 100.702, Table 1 to § 100.702, Item 2, specifies the location of the regulated area which encompasses a portion of the Atlantic Ocean east of Miami Beach. During the enforcement periods, as reflected in § 100.702, if you are the operator of a vessel in the regulated area you must comply with directions from the Patrol Commander or any Official Patrol displaying a Coast Guard ensign.

In addition to this notice of enforcement in the Federal Register, the Coast Guard plans to provide notification of this enforcement period via the Local Notice to Mariners and marine information broadcasts.

Dated: April 28, 2022.
J.F. Burdian,
Captain, U.S. Coast Guard, Captain of the Port Miami.

[FR Doc. 2022-09501 Filed 5-3-22; 8:45 am]

BILLING CODE 9110-04-P